DEPARTMENT OF ENERGY

Federal Energy Regulatory Commission

[Docket No. RP03-401-002]

Southern LNG Inc.; Notice of Compliance Filing

October 7, 2003.

Take notice that on October 1, 2003, Southern LNG (Southern LNG) tendered for filing as part of its FERC Gas Tariff, Original Volume No. 1, the following revised tariff sheet in compliance with the Commission's order on September 16, 2003: 2nd Substitute 2nd Revised Sheet No. 99.

On March 12, 2003, the Commission issued Order No. 587-R in Docket No. RM96-1-024, which revised the Commission's regulations to incorporate changed standards of the North American Energy Standards Board. Southern LNG filed sheets on July 14, 2003 to comply with Order No. 587-R, and the September 16, 2003 order conditionally accepted the sheets. Southern LNG states that the proposed sheet complies with the condition to the September 16, 2003 order. The sheet has an effective date of July 1, 2003.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: October 14, 2003.

Magalie R. Salas,
Secretary.

[FR Doc. 03-26061 Filed 10-14-03; 8:45 am]

BILLING CODE 6717-01-P